NUCLEAR REGULATORY COMMISSION

Notice of Environmental Assessment and Finding of No Significant Impact for Exemption, in Accordance With 10 CFR 30.11, From NRC Licensing Requirements That May Otherwise Be Applicable With Respect to the Receipt and Disposal of Cesium Contaminated Emission Control Dust Located at the LeTourneau, Inc. Steel Mill in Longview, Texas at the U.S. Ecology Idaho Disposal Facility

AGENCY: U.S. Nuclear Regulatory Commission.

ACTION: Environmental Assessment and Finding of no significant impact for exemption from NRC regulations pursuant to 10 CFR 30.11.

FOR FURTHER INFORMATION CONTACT: James Shaffner, Project Manager, Low-Level Waste Branch, Environmental Protection and Performance Assessment Directorate, Division of Waste Management and Environmental Protection, FSME, U.S. NRC; telephone: (301) 415-5496; fax number: (301) 415-5397; or by e-mail at jas11@nrc.gov.

SUPPLEMENTARY INFORMATION:

I. Introduction

The U. S. Nuclear Regulatory Commission (NRC) is considering, pursuant to 10 CFR 30.11, the issuance of an exemption from NRC licensing requirements that would otherwise be associated with U.S. Ecology Idaho's (USEI) receipt and disposal of emission control dust contaminated with minor concentrations of Cesium 137 resulting from the accidental melting of a Cesium sealed source. The contaminated material is the property of LeTourneau Inc., the owner of a steel mill near Longview, TX. A Texas licensee, Earth-Tech, is managing the material on behalf of LeTourneau consistent with Earth-Tech's Texas Radioactive Materials License (LO5449). None of the parties involved in the proposed action are NRC licensees.

Issuance of the proposed exemption, in conjunction with an action by the State of Texas to approve the removal of the wastes from the LeTourneau site, will allow for transfer of the material, by rail car, to USEI's Resource Conservation and Recovery (RCRA) Subtitle C facility near Grand View, Idaho for processing (stabilization) and disposal. Material would be processed and disposed of in accordance with the requirements of USEI's RCRA permit. Pursuant to the proposed exemption, the material, upon its receipt at USEI's disposal facility, would not be subject to NRC licensing and would not be subject to NRC regulation.

II. Environmental Assessment

Identification of Proposed Action

10 CFR 30.11 provides that “* * * the Commission may, upon application of any interested person or upon its own initiative, grant such exemptions from the requirements of the regulations in this part * * * as it determines are authorized by law and will not endanger life or property or the common defense and security and are otherwise in the public interest.” The proposed action would exempt USEI from NRC licensing requirements contained in 10 CFR Part 30 that would otherwise be associated with the receipt, processing, and disposal of material contaminated with small concentrations (less than 25 picocuries per gram) of Cesium 137, a radioactive byproduct material. This action is in conjunction with a concurrent action by the Texas Department of State Health Services (DSHS) to approve the transfer of the material (per Title 25, Texas Administrative Code § 289.252(cc)(2)(E)) from the LeTourneau site notwithstanding the provisions of Title 25, Texas Administrative Code § 289.202(ff)(20)(A) related to the stabilization of these materials. It would allow the transfer of approximately 250 tons of emissions control dust (K061) from the LeTourneau facility in Longview, Texas to the USEI facility near Grand View, Idaho. Pursuant to the proposed exemption, the material, upon its receipt at USEI's disposal facility, would not be subject to NRC licensing and would not be subject to NRC regulation. USEI would then process (stabilize) the material for disposal at its facility consistent with the requirements of its RCRA Subtitle C permit.

Need for the Proposed Action

This exemption is necessary to allow the timely disposal of 250 tons of K061 material that is slightly contaminated (less than 25 picocuries per gram) with Cs 137 at the USEI disposal facility near Grand View, Idaho, which is permitted under RCRA, Subtitle C. NRC is fulfilling its responsibilities under the Atomic Energy Act to make a timely decision on the proposed exemption that ensures protection of public health and safety and the environment.

Environmental Impacts of the Proposed Action

In its October 27, 2006 letter and technical report, LeTourneau included a description of disposal site characteristics, a description of the waste, and radiological assessments of potential dose to transport workers, USEI site workers and future occupants of the disposal site after site closure. The NRC staff has reviewed the evaluations performed by LeTourneau, as well as related Texas DSHS correspondence (dated November 14, 2006, and February 1, 2007) in order to determine whether the criteria for granting the exemption are met. Staff has found that the potential doses to members of the public, either through proximity to material in transport, as a worker at the USEI facility, or as a current or future resident around the USEI facility, are less than “a few mrem” and consistent with NRC's policy which would be applicable to NRC licensees regarding 10 CFR 20.2002 approvals. Staff also considered the risk associated with possible transportation accidents associated with the waste material in a readily dispersable form. Staff concludes that risk will be insignificant because of: (1) Low doses associated with low concentrations; and (2) the low accident rate associated with rail transport. Further, the staff has determined that the affected environment and environmental impacts associated with the proposed action will not significantly increase the probability or consequences of accidents.

USEI has received for processing and disposal similar material in the past. No changes are being made in the types of effluents that may be released off of the USEI site, nor is there significant potential for increase in public radiation exposure (for this evaluation USEI workers are considered members of the public). Based on its review, the NRC staff considered the impact of residual radioactivity at the disposal facility. The NRC has identified no other radiological or non-radiological activities in the area that could result in cumulative impacts, and concludes that the proposed action will not have a significant effect on the quality of the environment.

Environmental Impacts of the Alternatives to the Proposed Action

Due to the small amounts of radioactive material involved, the environmental impacts of the proposed action are small. Therefore, the only alternative that the staff considered is the no-action alternative, under which the NRC would maintain status quo by refusing to grant this exemption. This would require either leaving the material in place near Longview or sending it to an alternative facility that is permitted to receive it. In the case of the former, projected radiological impacts on members of the public are projected to be greater than those associated with the proposed action. In the case of the latter, radiological impacts and transportation risks would be similar to those associated with the proposed action with higher implementation costs.

Conclusion

The NRC staff has concluded that the proposed action will not significantly impact the quality of the human environment, and that the proposed action is the preferred alternative.

Agencies and Persons Consulted

NRC provided a draft of this Environmental Assessment to the State of Idaho Department of Environmental Quality and the Texas Department of State Health Services for review on February 5, 2007. Minor comments received from both agencies via e-mail have been incorporated herein or otherwise resolved.

The NRC staff has determined that the transportation of the subject material over preexisting rail transportation routes for disposal at a preexisting facility is not likely to jeopardize the continued existence of any endangered species or threatened species or result in the destruction or adverse modification of the habitat of such species. Therefore, no further consideration is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts resulting from the proposed action and that preparation of an environmental impact statement is not warranted. Accordingly, the NRC has determined that a Finding of No Significant Impact is appropriate.

IV. Further Information

Documents related to this action are available electronically in the NRC's Reading Room at http://www.nrc.gov/reading-rm/adams.html. From this site, you can access NRC's Agencywide Document Access and Management System (ADAMS), which provides text and image files of NRC's public documents. The documents associated with this action are:

(1) Letter dated October 27, 2006, from LeTourneau to Texas DSHS and NRC requesting exemptions to allow transfer of material to USEI for processing and disposal. (ML063260540),

(2) Letter dated November 14, 2006, from E. Bailey, Texas DSHS to W. Maier, NRC Region IV requesting NRC determination whether or not wastes may be disposed of at USEI facility and a condition for DSHS approval of waste removal. (ML070540192),

(3) Letter dated February 1, 2007, from E. Bailey, Texas DSHS to W. Maier, NRC Region IV clarifying terms of approval for waste removal. (ML070540194),

(4) Technical Review and Safety Evaluation Report of LeTourneau proposal by NRC staff dated February 22, 2007 (ML070530623),

(5) Title 10, Code of Federal Regulations, part 30, “Rules of General Applicability to Domestic Licensing of Byproduct Material.”

If you do not have access to ADAMS, or if there are problems accessing documents located in ADAMS, contact the NRC Public Document Room (PDR) Reference Staff at 1-800-397-4209, 301-415-4737 or e-mail pdr@nrc.gov. These documents may also be viewed electronically on the public computers located at the NRC's PDR, O-1F21, One White Flint North, 11555 Rockville Pike, Rockville, MD 20852. The PDR reproduction contractor will copy documents for a fee.

Dated at Rockville, Maryland, this 13th Day of March, 2007.
For the Nuclear Regulatory Commission.
Scott Flanders,
Deputy Director, Environmental Protection and Performance Assessment Directorate, Division of Waste Management and Environmental Protection, Office of Federal and State Materials and Environmental Management.

[FR Doc. E7-5034 Filed 3-19-07; 8:45 am]

BILLING CODE 7590-01-P